NATIONAL FOUNDATION ON THE ARTS AND HUMANITIES

National Endowment for the Arts

Public Availability of National Endowment for the Arts FY 2015 Service Contract Inventory

AGENCY: National Endowment for the Arts, National Foundation on the Arts and Humanities.

ACTION: Notice of public availability of FY 2015 Service Contract Inventory.

SUMMARY: In accordance with Section 743 of Division C of the Consolidated Appropriations Act of 2010 (Pub. L. 111-117), National Endowment for the Arts is publishing this notice to advise the public of the availability of the FY 2015 Service Contract inventory. This inventory provides information on service contract actions over $25,000 that were made in FY 2015. The information is organized by function to show how contracted resources are distributed throughout the agency. The inventory has been developed in accordance with guidance issued on November 5, 2010 by the Office of Management and Budget's Office of Federal Procurement Policy (OFPP). OFPP's guidance is available at http://www.whitehouse.gov/sites/default/files/omb/procurement/memo/service-contract-inventories-guidance-11052010.pdf. National Endowment for the Arts has posted its inventory and a summary of the inventory on the National Endowment for the Arts Web site at the following link: https://www.arts.gov/open-government/fair-act-service-contract-inventories.

FOR FURTHER INFORMATION CONTACT: Questions regarding the service contract inventory should be directed to Ned Read in the Office of the Deputy Chairman for Management and Budget at 202-682-5782 or readn@arts.gov.

Dated: July 5, 2016.
Kathy N. Daum,
Director, Office of Administrative Services.

[FR Doc. 2016-16280 Filed 7-8-16; 8:45 am]

BILLING CODE 7537-01-P